DEPARTMENT OF DEFENSE

Office of the Secretary

Open Meeting on the Department of Defense Directive 1344.7, “Personal Commercial Solicitation on DoD Installations”

AGENCY: Office of the Under Secretary of Defense for Personnel and Readiness, DoD.

ACTION: Notice; open meeting on the Department of Defense Directive 1344.7, “Personal Commercial Solicitation on DoD Installations”.

SUMMARY: The Office of the Under Secretary of Defense for Personnel and Readiness is announcing the opportunity to provide comment on the Administrative Reissuance of Department of Defense Directive 1344.7, “Personal Commercial Solicitation on DoD Installations,” dated February 13, 1986. The Department will consider the comments provided by those in attendance as it completes its review of the input received.

DATES: May 6, 2005, Friday, from 9:30 a.m. to 1:30 p.m.

ADDRESSES: The meeting will be held at the Central Library, 1015 N. Quincy Street, Arlington, VA 22201, Phone: 703-228-5990.

FOR FURTHER INFORMATION CONTACT: Colonel Michael A. Pachuta or Mr. James M. Ellis at (703) 602-4994 or (703) 602-5009 respectively, or main (703) 602-5001.

SUPPLEMENTARY INFORMATION: The Department of Defense has rewritten the existing policy governing “Personal Commercial Solicitation on DoD Installations,” and is taking input on potential changes to the Administrative Reissuance of DoD Directive (DoDD) 1344.7. Inputs are welcome. If you recommend adding or deleting any provisions, please explain why succinctly. All oral comments on DoDD 1344.7, “Personal Commercial Solicitation on DoD Installations” will be limited to 5 minutes per individual/organization represented. Accompany any oral comments with a written transcript or summary.

All written comments should include full name, address and telephone number of the sender or a knowledgeable point of contact. If possible, please send an electronic version of the comments either on a 3½ inch DOS format floppy disk, or by email to the addresses listed below, in Adobe Acrobat Portable Document Format (PDF) or Microsoft Word. Because of staffing and resource limitations we cannot accept comments by facsimile, and all comments and content are to be limited to 8.5” wide by 11” high vertical page orientation. Additionally, if identical/duplicate comment submissions are submitted both electronically and in paper format, each submission should clearly indicate that it is a duplicate submission. In each comment, please specify the section of the new DoDD 1344.7 to which the comment applies. Written comments can be addressed to either Colonel Michael A. Pachuta (Michael.Pachuta@osd.mil) or Mr. James M. Ellis (James.Ellis@osd.mil), at DUSD (MC&FP), 241 S. 18th St, Crystal Square #4, Suite 302, Arlington, VA 22202.

Dated: April 14, 2005.
Jeannette Owings-Ballard,
OSD Federal Register Liaison Officer, Department of Defense.

[FR Doc. 05-7937 Filed 4-15-05; 2:33 pm]

BILLING CODE 5001-06-P